DEPARTMENT OF COMMERCE

Foreign-Trade Zones Board

[B-57-2018]

Foreign-Trade Zone (FTZ) 149—Freeport, Texas; Notification of Proposed Production Activity; DSM Nutritional Products, LLC; (Vinylol) Freeport, Texas

The Port of Freeport, grantee of FTZ 149, submitted a notification of proposed production activity to the FTZ Board on behalf of DSM Nutritional Products, LLC (DSM) (formerly Hoffmann-La Roche Inc.), located in Freeport, Texas. The notification conforming to the requirements of the regulations of the FTZ Board (15 CFR 400.22) was received on September 11, 2018.

DSM already has authority to produce beta carotene crystalline, C-25 aldehyde and vinyl salt within Subzone 149B. The current request would add a finished product (vinylol-pure and crude) to the scope of authority. Pursuant to 15 CFR 400.14(b), additional FTZ authority would be limited to the specific finished product described in the submitted notification and subsequently authorized by the FTZ Board.

Production under FTZ procedures could exempt DSM from customs duty payments on the foreign-status materials/components in the existing scope of authority used in export production of vinylol-pure and crude. On its domestic sales, for the foreign-status materials/components in the existing scope of authority (duty rates, 3.7% or 5.5%), DSM would be able to choose the duty rate during customs entry procedures that applies to vinylol-pure and crude (duty rate 5.5%). DSM would be able to avoid duty on foreign-status components which become scrap/waste. Customs duties also could possibly be deferred or reduced on foreign-status production equipment.

Public comment is invited from interested parties. Submissions shall be addressed to the Board's Executive Secretary at the address below. The closing period for their receipt is October 29, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Diane Finver at Diane.Finver@trade.gov or (202) 482-1367.

Dated: September 12, 2018.
Andrew McGilvray,
Executive Secretary.

[FR Doc. 2018-20256 Filed 9-17-18; 8:45 am]

BILLING CODE 3510-DS-P